Title 3—

The President

Proclamation 10747 of May 3, 2024

Days of Remembrance of the Victims of the Holocaust, 2024

By the President of the United States of America

A Proclamation

During Yom HaShoah and these days of remembrance, we mourn the six million Jews who were systematically targeted and murdered in the Holocaust, one of the darkest chapters in human history. We also mourn the Roma, Sinti, Slavs, people with disabilities, LGBTQI+ people, racial minorities, and political dissidents who were killed or endured abuse by the Nazis and their collaborators, as well as those who risked or lost their lives to protect others. We honor the memories of the victims, the courage of the survivors, and the heroism of those who stood up to the Nazis, and we recommit ourselves to making real the promise of “Never Again.”

I often reflect on memories of sitting around our kitchen table where my father would educate my siblings and me about the horrors of the Holocaust. Entire families wiped out. Communities savagely destroyed. Survivors left with memories and traumas that will never go away—even as the tattoos etched into their skin by the Nazis fade and the number of survivors dwindles. My dad taught us that silence is complicity—a lesson I have passed down to my children and grandchildren by taking them to the Dachau concentration camp in Germany. As United States Senator, as Vice President, and now as President, I have met with many Holocaust survivors, promising them that our Nation would neither forget what they endured nor ever again stand by silently in the face of antisemitism.

The charge has never been more urgent than in the aftermath of Hamas' vicious terrorist attack on October 7th—the deadliest day for Jews since the Holocaust. Among the 1,200 innocent people who were slaughtered and the hundreds taken hostage were elderly survivors of the Shoah, who were forced to relive the horrors they thought they had escaped decades ago. My Administration is working tirelessly to free the hostages who have been held by Hamas for over half a year—and as I have said to their families, we will not rest until we bring them home.

While Jews across the country and around the world are still coping with the trauma of that day and its aftermath, we have seen an alarming surge in antisemitism at home and abroad that resurfaces painful scars of millennia of antisemitism and hate against the Jewish people. This includes harassment and calls for violence against Jews—in our schools, in our communities, and online. This blatant antisemitism is reprehensible and dangerous. Antisemitic hate speech has absolutely no place on college campuses or anywhere else in our country. As Americans, we cannot stay silent as Jews are attacked, harassed, and targeted. We must also forcefully push back attempts to ignore, deny, distort, or revise the history of Nazi atrocities during the Holocaust or Hamas' murders and other atrocities committed on October 7th—including the appalling and unforgiveable use of rape and sexual assault to terrorize and torture Jewish women and girls.

My commitment to the safety of the Jewish people and the security of Israel is ironclad. Under the first-ever National Strategy to Combat Antisemitism, my Administration is mobilizing the full force of the Federal Government to crack down on antisemitism and to ensure hate has no safe harbor in America. We clarified civil rights protections for Jews under Title VI of the Civil Rights Act of 1964. The Department of Education is leading investigations into antisemitism on college campuses. The Department of Justice is investigating and prosecuting hate crimes. The Federal Bureau of Investigation is focused on delivering security resources to Jewish communities. We provided the largest-ever increase in funding for the physical security of non-profits, including synagogues, Jewish community centers, and Jewish schools. I appointed Deborah Lipstadt, a Holocaust expert, to be the first-ever Ambassador-level Special Envoy to Monitor and Combat Antisemitism around the world.

During these somber days of remembrance, we mourn the lives tragically stolen in the Shoah and on October 7th. As we hold the Jewish community close to our hearts, we recommit to remembering so that what happened can never be erased. Some injustices are so heinous, horrific, and grievous that they cannot be buried, no matter how hard people try. In silence, wounds deepen, but in remembrance comes healing, justice, and repair. Toward those aims, we must all forcefully act against antisemitism and all forms of hate-fueled violence. As we do, we honor the courage, strength, and resilience of the Jewish people, who have inspired the world for generations by turning pain into purpose, healing into hope, and darkness into light.

NOW, THEREFORE, I, JOSEPH R. BIDEN JR., President of the United States of America, by virtue of the authority vested in me by the Constitution and the laws of the United States, do hereby proclaim May 5 through May 12, 2024, as a week of observance of the Days of Remembrance of the Victims of the Holocaust, and I call upon the people of the United States to observe this week and pause to remember victims and survivors of the Holocaust.

IN WITNESS WHEREOF, I have hereunto set my hand this third day of May, in the year of our Lord two thousand twenty-four, and of the Independence of the United States of America the two hundred and forty-eighth.

[FR Doc. 2024-10523

Filed 5-10-24; 8:45 am]

Billing code 3395-F4-P